DEPARTMENT OF AGRICULTURE

Forest Service

Eastern Washington Cascades Provincial Advisory Committee and the Yakima Provincial Advisory Committee

AGENCY: Forest Service, USDA.

ACTION: Notice of meeting.

SUMMARY: The Eastern Washington Cascades Provincial Advisory Committee and the Yakima Provincial Advisory Committee will meet on Friday, February 23, 2007 at the Okanogan and Wenatchee National Forest Headquarters office, 215 Melody Lane, Wenatchee, WA. This meeting will begin at 9 a.m. and continue until 4 p.m. During this meeting Provincial Advisory Committee members will discuss Roadless Area considerations and potential Wilderness recommendations in conjunction with Forest Plan Revision for the Okanogan and Wenatchee National Forests. All Eastern Washington Cascades and Yakima Province Advisory Committee meetings are open to the public.

FOR FURTHER INFORMATION CONTACT: Direct questions regarding this meeting to Paul Hart, Designated Federal Official, USDA, Wenatchee National Forest, 215 Melody Lane, Wenatchee, Washington 98801, 509-644-9200.

Dated: February 5, 2007.
Paul Hart,
Designated Federal Official, Okanogan and Wenatchee National Forests.

[FR Doc. 07-582 Filed 2-8-07; 8:45 am]

BILLING CODE 3410-11-M